DEPARTMENT OF HEALTH AND HUMAN SERVICES

Administration for Children and Families

President's Committee on Mental Retardation; Notice of Meeting

AGENCY: President's Committee on Mental Retardation.

ACTION: Notice of meeting.

DATES: Thursday, February 24, 2000 from 9:00 a.m. to 2:00 p.m.

Place: The meeting will be held in the Loews New York Hotel, 569 Lexington Avenue at East 51st Street, New York, New York 10022. Full Committee Meetings are open to the public. An interpreter for the deaf will be available upon advance request. All meeting sites are barrier free.

Agenda: The Committee plans to discuss critical issues concerning Federal Policy, Federal Research and Demonstration, State Policy Collaboration, Minority and Cultural Diversity and Mission and Public Awareness, relating to individuals with mental retardation.

FOR FURTHER INFORMATION CONTACT: Jane L. Browning, Executive Director, President's Committee on Mental Retardation, Room 701 Aerospace Building, 370 L'Enfant Promenade, S.W., Washington, D.C. 20447, (202) 619-0634.

SUPPLEMENTARY INFORMATION: The PCMR acts in an advisory capacity to the President and the Secretary of the U.S. Department of Health and Human Services on a broad range of topics relating to programs, services, and supports for persons with mental retardation. The Committee, by Executive Order, is responsible for evaluating the adequacy of current practices in programs and supports for persons with mental retardation, and for reviewing legislative proposals that impact the quality of life that is experienced by citizens with mental retardation and their families.

Dated: February 7, 2000.
Jane L. Browning,
Executive Director, PCMR.

[FR Doc. 00-3245 Filed 2-10-00; 8:45 am]

BILLING CODE 4104-01-M